DEPARTMENT OF COMMERCE

International Trade Administration

[A-533-823]

Silicomanganese From India: Final Results No Shipment Determination of Antidumping Duty Administrative Review; 2014-2015

AGENCY: Enforcement and Compliance, International Trade Administration, U.S. Department of Commerce.

SUMMARY: On May 10, 2016, the Department of Commerce (the Department) published the Preliminary Results of the 2014-2015 administrative review (AR) of the antidumping duty (AD) order on silicomanganese from India. The period of review (POR) is May 1, 2014, through April 30, 2015. We received no comments from interested parties. Therefore, the Department continues to find that Universal Ferro and Allied Chemicals Ltd. (Universal) had no reviewable transactions of subject merchandise to the United States during the POR.

DATES: Effective August 22, 2016.

FOR FURTHER INFORMATION CONTACT: David Lindgren at (202) 482-3870; AD/CVD Operations, Office VII, Enforcement and Compliance, International Trade Administration, U.S. Department of Commerce, 14th Street and Constitution Avenue NW., Washington, DC 20230.

SUPPLEMENTARY INFORMATION:

Background

On May 10, 2016, the Department published the Preliminary Results of the AR of the AD order on silicomanganese from India.¹ We invited interested parties to comment on the Preliminary Results. No party provided comments. The Department has conducted this AR in accordance with section 751(a)(1) of the Tariff Act of 1930, as amended (the Act).

¹ See Silicomanganese From India: Preliminary Results of Antidumping Duty Administrative Review; 2014-2015, 81 FR 28826 (May 10, 2016) (Preliminary Results).

Scope of the Order

The products subject to the order are all forms, sizes and compositions of silicomanganese, except low-carbon silicomanganese, including silicomanganese briquettes, fines and slag. Silicomanganese is a ferroalloy composed principally of manganese, silicon and iron, and normally contains much smaller proportions of minor elements, such as carbon, phosphorous and sulfur. Silicomanganese is sometimes referred to as ferrosilicon manganese. Silicomanganese is used primarily in steel production as a source of both silicon and manganese. Silicomanganese generally contains by weight not less than 4 percent iron, more than 30 percent manganese, more than 8 percent silicon and not more than 3 percent phosphorous. Silicomanganese is properly classifiable under subheading 7202.30.0000 of the Harmonized Tariff Schedule of the United States (HTSUS). Some silicomanganese may also be classified under HTSUS subheading. This scope covers all silicomanganese, regardless of its tariff classification. Although the HTSUS subheadings are provided for convenience and U.S. Customs and Border Protection (CBP) purposes, our written description of the scope remains dispositive.

The low-carbon silicomanganese excluded from this scope is a ferroalloy with the following chemical specifications: minimum 55 percent manganese, minimum 27 percent silicon, minimum 4 percent iron, maximum 0.10 percent phosphorus, maximum 0.10 percent carbon and maximum 0.05 percent sulfur. Low-carbon silicomanganese is used in the manufacture of stainless steel and special carbon steel grades, such as motor lamination grade steel, requiring a very low carbon content. It is sometimes referred to as ferromanganese-silicon. Low-carbon silicomanganese is classifiable under HTSUS subheading 7202.99.8040.

Final Determination of No Shipments

As explained above, in the Preliminary Results, the Department found that Universal did not have reviewable entries during the POR. Also in the Preliminary Results, the Department stated that it is not appropriate to rescind the review with respect to Universal, but rather complete the review with respect to Universal and issue appropriate instructions to CBP based on the final results.²

² See Preliminary Results, 81 FR at 28826.

After issuing the Preliminary Results, the Department received no comments from interested parties, and has not received any information that would cause it to alter its preliminary determination. Therefore, for these final results, the Department continues to find that Universal did not have any reviewable entries during the POR. As the Department received no comments or new information for consideration in these final results, the Department has not prepared an Issues and Decision Memorandum for this AR.

Assessment

The Department has determined, and CBP shall assess, antidumping duties on all appropriate entries of subject merchandise in accordance with the final results of this review.³ The Department intends to issue assessment instructions to CBP 15 days after the date of publication of these final results of review. Additionally, because the Department determined that Universal had no shipments of subject merchandise during the POR, any suspended entries that entered under Universal's AD case number (i.e., at that exporter's rate) will be liquidated at the all-other rate if there is no rate for the intermediate company(ies) involved in the transaction.⁴

³ See 19 CFR 351.212(b).

⁴ See Antidumping and Countervailing Duty Proceedings: Assessment of Antidumping Duties, 68 FR 23954 (May 6, 2003).

Cash Deposit Requirements

The following cash deposit requirements will be effective upon publication of the final results of this AR for all shipments of the subject merchandise entered, or withdrawn from warehouse, for consumption on or after the publication date, as provided by section 751(a)(2)(C) of the Act: (1) For Universal, which claimed no shipments, the cash deposit rate will remain unchanged from the rate assigned to Universal in the most recently completed segment of this proceeding; (2) for previously reviewed or investigated companies, the cash deposit rate will continue to be the company-specific rate published in the most recently completed segment of this proceeding in which that manufacturer or exporter participated; (3) if the exporter is not a firm covered in this review, a prior review, or the original investigation, but the manufacturer is, the cash deposit rate will be the rate established for the most recently completed segment of this proceeding for the manufacturer of subject merchandise; and, (4) if neither the exporter nor the manufacturer is a firm covered in this or any previous segment of this proceeding, the cash deposit rate will be the all-others rate of 17.74 percent, as established in the investigation.⁵ These deposit requirements, when imposed, shall remain in effect until further notice.

⁵ See Silicomanganese from India: Notice of Final Determination of Sales at Less Than Fair Value and Final Negative Critical Circumstances Determination, 67 FR 15531 (April 2, 2002), as corrected in Notice of Amended Final Determination of Sales at Less than Fair Value and Antidumping Duty Orders: Silicomanganese from India, Kazakhstan, and Venezuela, 67 FR 36149 (May 23, 2002).

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

In accordance with 19 CFR 351.305(a)(3), this notice also serves as a reminder to parties subject to administrative protective order (APO) of their responsibility concerning the return or destruction of proprietary information disclosed under APO, which continues to govern business proprietary information in this segment of the proceeding. Timely written notification of the return or destruction of APO materials, or conversion to judicial protective order, is hereby requested. Failure to comply with the regulations and terms of an APO is a sanctionable violation.

These final results of this AR and notice are published in accordance with sections 751(a)(l) and 777(i)(l) of the Act and 19 CFR 351.213(h).

Dated: August 15, 2016.
Paul Piquado,
Assistant Secretary for Enforcement and Compliance.

[FR Doc. 2016-20009 Filed 8-19-16; 8:45 am]

BILLING CODE 3510-DS-P